DEPARTMENT OF HOMELAND SECURITY

[OMB Control Number: 1651-0101]

Submission for Review; Reinstatement Previously Discontinued Information Collection Request for the Fiscal Year 2003 State Domestic Preparedness Program

AGENCY: Preparedness Directorate, National Preparedness Task Force, DHS.

ACTION: Notice; 30-day notice of information collections under review: Reinstatement Previously Discontinued Information Collection Request for the Fiscal Year 2003 State Domestic Preparedness Program.

SUMMARY: The Department of Homeland Security (DHS) has submitted the following information collection request (ICRs) to the Office of Management and Budget (OMB) for review and clearance in accordance with the Paperwork Reduction Action of 1995: 1600-0002, 1600-0003, 1600-0004, 1600-0005. The information collections were previously published in Federal Register on October 12, 2006 allowing for OMB review and a 60-day public comment period. No Comments were received by DHS.

The purpose of this notice is to allow an additional 30 days for public comments.

DATES: Comments are encouraged and will be accepted until January 19, 2007 (Automatically tabulated by FR). This process is conducted in accordance with 5 CFR 1320.10.

Comments: Interested persons are invited to submit written comments on the proposed information collection to the Office of Information and Regulatory Affairs, Office of Management and Budget. Comments should be addressed to Nathan Lesser, Desk Officer, Department of Homeland Security/Preparedness, and sent via electronic mail to oira_submission@omb.eop.gov or faxed to (202) 395-6974.

The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

FOR FURTHER INFORMATION CONTACT: A copy of this ICR, with applicable supporting documentation, may be obtained by calling Nathan Lesser, Desk Officer, Department of Homeland Security Washington, DC 20528; and sent via electronic mail to oira_submission@omb.eop.gov of faxed to (202) 395-6974 (this is not a toll free number.)

SUPPLEMENTARY INFORMATION:

Analysis

Agency: Department of Homeland Security, Preparedness Directorate, National Preparedness Task Force.

Title: Fiscal Year 2003 State Domestic Preparedness Program.

OMB No.: 1651-0101.

Frequency: On occasion.

Affected Public: Primary, State, Local and Tribal Government.

Estimated Number of Respondents: 2,059 respondents.

Estimated Time Per Respondent: .33 hour per response.

Total Burden Hours: 679.47.

Total Burden Cost: (capital/ Startup): None.

Total Burden Cost: (operating/maintaining): None.

Description: This data collection will allow states to: (1) Report current jurisdictional needs for equipment, training, exercises and technical assistance; (2) forecast projected needs for this support and (3) identify the gaps that exist at the jurisdictional level in equipment, training and technical assistance that NPTF and other federal agencies in to the formulation of in the formulation of domestic preparedness policies and with the development of programs to enhance state and local first responder capabilities.

Charlie Church,
Chief Information Officer, Preparedness Directorate, Department of Homeland Security.

[FR Doc. 06-9789 Filed 12-19-05; 8:45 am]

BILLING CODE 4410-10-M